DEPARTMENT OF ENERGY

Federal Energy Regulatory Commission

[Project Nos. 2181-014 and 2697-014]

Northern States Power Company; Notice of Site Visit

May 30, 2003.

a. Date and Time of Site Visit: June 18, 2003, 1 p.m. to 5 p.m., and June 19, 2003, 8:30 a.m. to 12 p.m.

b. Place: We will meet at the Menomonie Project powerhouse (300 2nd Street NW., Menomonie, WI) at 1 p.m. on June 18, 2003. On June 19, 2003, we will meet at the Cedar Falls Project powerhouse (N7075 540th Street, Menomonie, WI) at 8:30 a.m.

Applicant Contact: Lloyd Everhart, Xcel Energy, (715)839-2692.

c. FERC Contact: John Ramer, (202)502-8969; john.ramer@ferc.gov.

d. Purpose of the Site Visit: Applications for new hydropower licenses for the Menomonie and Cedar Falls Projects have been filed with the Federal Energy Regulatory Commission (FERC), and the FERC staff is presently reviewing these applications. part of staff's review process is to assess the proposed projects' potential effects on environmental resources and to make recommendations to protect or enhance those resources, if needed. Staff needs complete and adequate information before they can complete their review of these applications. Therefore, the FERC staff intends to visit the Menomonie and Cedar Falls Hydropower Projects, FERC Nos. P-2181 and P-2697, respectively, to familiarize themselves with the project facilities and operations, and any resources that could be affected by licensing these projects.

e. Proposed Schedule and Location: We will meet at the Menomonie Project powerhouse at 1 p.m. on June 18, 2003, and first tour the powerhouse and dam facilities. We will then tour the project impoundment and stop at recreational facilities and other points of interest, completing the Menomonie Project tour by 5 p.m. On June 19, 2003, we will meet at the Cedar Falls Project powerhouse at 8:30 a.m., and first tour the powerhouse and dam facilities. This will be followed by a tour of the reservoir and points of interest around the reservoir, which will conclude by 12 p.m.

f. All local, state, and Federal agencies, Indian Tribes, and interested parties, are hereby invited to accompany FERC staff on this site visit. If you want to participate and need further information regarding schedule, location, or agenda, please contact: John Ramer at (202)502-8969, Peter Foote at (716)568-0425, or the applicant contact listed above.

Magalie R. Salas,
Secretary.

[FR Doc. 03-14234 Filed 6-5-03; 8:45 am]

BILLING CODE 6717-01-P